DEPARTMENT OF COMMERCE

Submission for OMB Review; Comment Request

The Department of Commerce will submit to the Office of Management and Budget (OMB) for clearance the following proposal for collection of information under the provisions of the Paperwork Reduction Act (44 U.S.C. Chapter 35).

Agency: Minority Business Development Agency (MBDA).

Title: National Minority Enterprise Development (MED) Week Awards Program Application Requirements.

OMB Control Number: None (new collection).

Form Number(s): None.

Type of Request: Regular submission.

Number of Respondents: 100.

Average Hours per Response: 2.

Burden Hours: 200.

Needs and Uses: One of MBDA's largest initiatives is the annual National Minority Enterprise Development (MED) Week Conference. The conference recognizes the role that minority entrepreneurs play in building the American economy through the creation of jobs, products and services, in addition to supporting their local communities. It includes the private, non-profit, and government sectors and provides a venue to discuss critical business issues affecting minority business as well as strategies to foster the growth and competitiveness of the minority business community. The MED Week Awards Program is a key element in the conference as it celebrates the outstanding achievements of minority entrepreneurs. MBDA has created categories of awards including Minority Construction Firm of the Year, Minority Manufacturer of the Year, Minority Retail or Service Firm of the Year, Minority Technology Firm of the Year, Minority Supplier Distributor of the Year, Advocate of the Year, Media Award, Distinguished Supplier Diversity Award, Access to Capital Award, the Ronald H. Brown Leadership Award, and the Abe Venable Award for Lifetime Achievement. Nominations for these awards are to be open to the public. MBDA must collect two kinds of information: (a) Information identifying the nominee and nominator and (b) information explaining why the nominee should be given the award. The information will be used to determine those applicants best meeting the preannounced selection criteria. Use of a nomination form standardizes and limits the information collected as part of the nomination process. This makes the competition fair and eases any burden on applicants and reviewers alike. Participation in the competition is voluntary. The awards are strictly honorary.

Affected Public: Business or other for-profit organizations; Not-for-profit institutions; State, local, or tribal government; Federal government.

Frequency: One-time only, on occasion, and annually.

Respondent's Obligation: Voluntary.

OMB Desk Officer: Nicholas Fraser, (202) 395-5887.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Nicholas Fraser, OMB Desk Officer, FAX number (202) 395-7285, or Nicholas_A._Fraser@omb.eop.gov.

Dated: March 9, 2009.
Gwellnar Banks,
Management Analyst, Office of the Chief Information Officer.

[FR Doc. E9-5409 Filed 3-12-09; 8:45 am]

BILLING CODE 3510-21-P